DEPARTMENT OF LABOR

Employment and Training Administration

[NAFTA-3854]

Chevron Products Company, Roosevelt, UT Notice of Negative Determination Regarding Application for Reconsideration

By application transmitted May 25, 2000, the petitioners request administrative reconsideration of the Department's denial of TA-W-37,240, TA-W-36,295I, and North American Free Trade Agreement-Transitional Adjustment Assistant (NAFTA-TAA). The NAFTA-TAA petition number was not provided.

At an earlier date, the same petitioners filed application for reconsideration of the Department's denial of Trade Adjustment Assistance (TAA) for workers of Chevron Products Company, Roosevelt, Utah, TA-W-37,240, and were notified that their was dismissed. The dismissal notice, dated March 29, 2000, was published in the Federal Register on April 11, 2000 (65 FR 19387). With respect to TA-W-36,295I, the petition is a certification issued on July 6, 1999, applicable to workers of Chevron Production, Chevron USA, Inc., all locations in Utah. Since the petitioners in this case are not employees of that company, there is no basis to reexamine the findings of that investigation.

The only petition that the Department may consider under the May 25, 2000 appeal, is the denial of NAFTA-TAA for workers and former workers of Chevron Products Company, Roosevelt, Utah (NAFTA-3854), signed on April 24, 2000, and published in the Federal Register on May 11, 2000 (65 FR 30444).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petitioners explain that the low price of imported crude oil forced U.S. producers to reduce activity which contributed to a loss of demand by oil producers for gaugers, and thus, worker separations at the subject firm. The petitioners also cite an increase in Canadian crude imports, including imports by Chevron, to replace lost production in the local area.

The petition investigation conducted on behalf of workers at Chevron Products Company in Roosevelt, Utah, revealed that there were no company imports of crude oil.

The petitioners state that other trucking and non-producing entities have been certified for TAA. That is not relevant to worker groups applying for NAFTA-TAA eligibility.

The Department's denial of NAFTA-TAA for workers engaged in lifting and transporting crude oil at Chevron Products Company, Roosevelt, Utah, NAFTA-3854, was based on the finding that the worker group provided a service and did not produce an article within the meaning of Section 250(a) of the Trade Act of 1974, as amended. As explained in the decision document for NAFTA-3854, eligibility requirement criteria under which service workers could be certified under the Trade Act were not met for the petitioning worker group. There were no NAFTA-TAA certifications in effect for workers of Chevron Products Company. Other findings of the investigation, not elaborated on in the decision document, show that the subject firm workers lifted and transported crude oil that was primarily purchased from unaffiliated firms.

The petitioners add that the Department's negative determination was premature because Utah had not issued their preliminary findings of the investigation. The Department had all of the information necessary (from the investigation conducted in response to the TAA petition for the same worker group), with which to determine if the group eligibility criteria under paragraph (a)(1) of Section 250 of the Trade Act of 1974 were met.

The petitioners state that the individual issuing denials of worker group eligibility should not be reviewing appeals. The response is that there is no provision in the Federal Regulations for any other means of administrative reconsideration. The appeal process described in 29 CFR § 90.18, affords the worker group the opportunity to present to the certifying officer (the

Conclusion

After review of the application and investigative findings, I conclude that there has been no error or misinterpretation of the law or of the facts which would justify reconsideration of the Department of Labor's prior decision. Accordingly, the application is denied.

Signed at Washington, D.C., this 21st day of July 2000.
Grant D. Beale,
Program Manager, Division of Trade Adjustment Assistance.

[FR Doc. 00-19404 Filed 7-31-00; 8:45 am]

BILLING CODE 4510-30-M